FEDERAL ELECTION COMMISSION

Sunshine Act Notices

Date and Time: Tuesday, August 1, 2006 at 10:00 a.m.

Place: 999 E Street, NW., Washington, DC.

Status: This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, August 3, 2006 at 10 a.m.

Place: 999 E Street, NW., Washington, DC (Ninth Floor).

Status: This meeting will be open to the public.

Items to be discussed: Correction and Approval of Minutes.

Final Audit Report—2004 Democratic National Convention Committee, Inc. (DNCC).

Routine Administrative Matters.

Person to Contact for Information: Mr. Robert Biersack, Press Officer. Telephone: (202) 694-1220.

Mary W. Dove,
Secretary of the Commission.

[FR Doc. 06-6565 Filed 7-25-06; 2:49 pm]

BILLING CODE 6715-01-M